DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons and vessels that have been placed on OFAC's Specially Designated Nationals and Blocked Persons List (SDN List) based on OFAC's determination that one or more applicable legal criteria were satisfied. All property and interests in property subject to U.S. jurisdiction of these persons are blocked, and U.S. persons are generally prohibited from engaging in transactions with them. The vessels placed on the SDN List have been identified as property in which a blocked person has an interest.

DATES: This action was issued on February 25, 2026. See SUPPLEMENTARY INFORMATION for relevant dates.

FOR FURTHER INFORMATION CONTACT: OFAC: Associate Director for Global Targeting, 202-622-2420; Assistant Director for Licensing, 202-622-2480; Assistant Director for Sanctions Compliance, 202-622-2490; or https://ofac.treasury.gov/contact-ofac.

SUPPLEMENTARY INFORMATION:

Electronic Availability

The SDN List and additional information concerning OFAC sanctions programs are available on OFAC's website: https://ofac.treasury.gov.

Notice of OFAC Action

On February 25, 2026, OFAC determined that the property and interests in property subject to U.S. jurisdiction of the following persons are blocked under the relevant sanctions authorities listed below.

Individuals

1. ZAND, Mehdi, Iran; DOB 06 Apr 1986; nationality Iran; Additional Sanctions Information—Subject to Secondary Sanctions; Gender Male; National ID No. 0386329192 (Iran) (individual) [IRAN-CON-ARMS-E.O.] (Linked To: QODS AVIATION INDUSTRIES).

Designated pursuant to section 1(a)(v) of Executive Order 13949 of September 21, 2020, “Blocking Property of Certain Persons With Respect to the Conventional Arms Activities of Iran,” 85 FR 60043, 3 CFR, 2020 Comp., p. 430 (“E.O. 13949”), for being owned or controlled by, or having acted or purported to act for or on behalf of, directly or indirectly, QODS AVIATION INDUSTRIES, a person whose property and interests in property are blocked pursuant to E.O. 13949.

2. JAFARI, Mehrdad, Iran; DOB 25 Dec 1986; nationality Iran; Additional Sanctions Information—Subject to Secondary Sanctions; Gender Male; Passport A65005073 (Iran); National ID No. 0080721966 (Iran) (individual) [IRAN-CON-ARMS-E.O.] (Linked To: QODS AVIATION INDUSTRIES).

Designated pursuant to section 1(a)(v) of E.O. 13949 for being owned or controlled by, or having acted or purported to act for or on behalf of, directly or indirectly, QODS AVIATION INDUSTRIES, a person whose property and interests in property are blocked pursuant to E.O. 13949.

3. SHARIATZADEH, Ebrahim, Iran; DOB 07 Jan 1985; nationality Iran; Additional Sanctions Information—Subject to Secondary Sanctions; Gender Male; Passport 101957390 (Iran); National ID No. 0829468048 (Iran) (individual) [IRAN-CON-ARMS-E.O.] (Linked To: QODS AVIATION INDUSTRIES).

Designated pursuant to section 1(a)(v) of E.O. 13949 for being owned or controlled by, or having acted or purported to act for or on behalf of, directly or indirectly, QODS AVIATION INDUSTRIES, a person whose property and interests in property are blocked pursuant to E.O. 13949.

4. ABEDINI, Mohammad, Iran; DOB 27 Aug 1995; nationality Iran; Additional Sanctions Information—Subject to Secondary Sanctions; Gender Male; Passport T54523589 (Iran); National ID No. 5100152982 (Iran) (individual) [IRAN-CON-ARMS-E.O.] (Linked To: QODS AVIATION INDUSTRIES).

Designated pursuant to section 1(a)(v) of E.O. 13949 for being owned or controlled by, or having acted or purported to act for or on behalf of, directly or indirectly, QODS AVIATION INDUSTRIES, a person whose property and interests in property are blocked pursuant to E.O. 13949.

Entities

1. PAROS MARITIME S.A., Panama City, Panama; Organization Established Date 22 Nov 2021; RUC # 155715457-2-2021 (Panama); Identification Number IMO 6272687 (Panama) [IRAN-EO13902].

Designated pursuant to to section 1(a)(i) of Executive Order 13902 of September 28, 2010, “Imposing Sanctions With Respect to Additional Sectors of Iran,” 85 FR 2003, 3 CFR, 2020 Comp., p. 299 (E.O. 13902), for operating in the petroleum sector of the Iranian economy.

2. WANSA GAS SHIPPING CO., Trust Company Complex, Ajeltake Road, Majuro, Ajeltake Island 96960, Marshall Islands; Office 2505, Silver Tower, Business Bay, Dubai, United Arab Emirates; Organization Established Date 17 Feb 2025; Identification Number IMO 0191721; Registration Number 130159 (Marshall Islands) [IRAN-EO13902].

Designated pursuant to section 1(a)(i) of E.O. 13902 for operating in the petroleum sector of the Iranian economy.

3. MISTRAL FLEET CO LTD (a.k.a. MISTRAL FLEET COMPANY LIMITED), Road Town, Tortola, Virgin Islands, British; Nationality of Registration Virgin Islands, British; Organization Established Date 2025; Identification Number IMO 0334947 [IRAN-EO13902].

Designated pursuant to section 1(a)(i) of E.O. 13902 for operating in the petroleum sector of the Iranian economy.

4. OCEAN KUDOS SHIPPING COMPANY LIMITED, Trust Company Complex, Ajeltake Road, Majuro, Ajeltake Island 96960, Marshall Islands; Organization Established Date 26 Nov 2024; Identification Number IMO 0118435; Registration Number 129014 (Marshall Islands) [IRAN-EO13902].

Designated pursuant to section 1(a)(i) of E.O. 13902 for operating in the petroleum sector of the Iranian economy.

5. POROS MARITIME VENTURES S.A., 21st Floor, Global Plaza, Calle 50, Panama City, Panama; Organization Established Date 04 Jun 2025; RUC # 155768186-2-2025 (Panama); Identification Number IMO 0260904 [IRAN-EO13902].

Designated pursuant to section 1(a)(i) of E.O. 13902 for operating in the petroleum sector of the Iranian economy.

6. VAST MARINE INC (a.k.a. VAST MARINE INCORPORATED), 80 Broad Street, Monrovia, Liberia; Organization Established Date 2023; Identification Number IMO 6421571 [IRAN-EO13902].

Designated pursuant to section 1(a)(i) of E.O. 13902 for operating in the petroleum sector of the Iranian economy.

Designated pursuant to section 1(a)(i) of E.O. 13902 for operating in the petroleum sector of the Iranian economy.

8. GOLDWAVE MARITIME SERVICES INC, Trust Company Complex, Ajeltake Road, Majuro, Ajeltake Island 96960, Marshall Islands; Organization Established Date 21 Aug 2024; Identification Number IMO 0042648; Registration Number 127600 (Marshall Islands) [IRAN-EO13902].

Designated pursuant to section 1(a)(i) of E.O. 13902 for operating in the petroleum sector of the Iranian economy.

9. ITHAKI MARITIME AND TRADING S.A., Global Plaza Tower, Calle 50, Panama City, Panama; Organization Established Date 2022; RUC # 155721579-2-2022 (Panama); Identification Number IMO 6329280 [IRAN-EO13902].

Designated pursuant to section 1(a)(i) of E.O. 13902 for operating in the petroleum sector of the Iranian economy.

10. KAITO NAVIGATION SA, 80 Broad Street, Monrovia, Liberia; Organization Established Date 2024; Identification Number IMO 0092021 [IRAN-EO13902].

Designated pursuant to section 1(a)(i) of E.O. 13902 for operating in the petroleum and petrochemical sectors of the Iranian economy.

11. NYR SHIPPING CO., Trust Company Complex, Ajeltake Road, Majuro, Ajeltake Island 96960, Marshall Islands; Organization Established Date 31 May 2024; Identification Number IMO 0148434; Registration Number 126284 (Marshall Islands) [IRAN-EO13902].

Designated pursuant to section 1(a)(i) of E.O. 13902 for operating in the petrochemical sector of the Iranian economy.

12. ALTIS TEKSTIL MAKINA TICARET LIMITED SIRKETI (a.k.a. ALTIS TEXTILE MACHINERY TRADING COMPANY LIMITED), Yakupulu Neighborhood, Hurriyet Boulevard, Skyport Site, Skyport Residence, No. 1, Suite No. 62, Beylikduzu, Istanbul 34524, Turkey; Additional Sanctions Information—Subject to Secondary Sanctions; Organization Established Date 24 Dec 2024; Business Registration Number 1059763 (Turkey) [NPWMD] [IFSR] (Linked To: OJE PARVAZ MADO NAFAR COMPANY).

Designated pursuant to section 1(a)(iii) of Executive Order (E.O.) 13382 of June 28, 2005, “Blocking Property of Weapons of Mass Destruction Proliferators and Their Supporters,” 70 FR 38567, 3 CFR, 2005 Comp., p. 170 (E.O. 13382), for having provided, or attempted to provide, financial, material, technological or other support for, or goods or services in support of, OJE PARVAZ MADO NAFAR COMPANY, a person whose property and interests in property are blocked pursuant to E.O. 13382.

13. ARYA GLOBAL GIDA SANAYI VE TICARET LIMITED SIRKETI, 198, No:22-1 Atakoy 7-8-9-10, Kisim Mahallesi, Cobancesme E-5 Yan Yol Caddesi, Bakirkoy, Istanbul 34158, Turkey; Additional Sanctions Information—Subject to Secondary Sanctions; Organization Established Date 08 Oct 2024; Tax ID No. 0861684402 (Turkey); Business Registration Number 1042035 (Turkey) [NPWMD] [IFSR] (Linked To: OJE PARVAZ MADO NAFAR COMPANY).

Designated pursuant to section 1(a)(iii) of E.O. 13382 for having provided, or attempted to provide, financial, material, technological or other support for, or goods or services in support of, OJE PARVAZ MADO NAFAR COMPANY, a person whose property and interests in property are blocked pursuant to E.O. 13382.

14. UTUS GUMRUKLEME GIDA TEKSTIL ITHALAT IHRACAT DIS TICARET VE SANAYI LIMITED SIRKETI, 198, No:22-1 Atakoy 7-8-9-10, Kisim Mahallesi, Cobancesme, E-5 Yan Yol Caddesi, Bakirkoy, Istanbul 34158, Turkey; Additional Sanctions Information—Subject to Secondary Sanctions; Organization Established Date 06 Dec 2024; Tax ID No. 8971008150 (Turkey); Business Registration Number 1055686 (Turkey) [NPWMD] [IFSR] (Linked To: OJE PARVAZ MADO NAFAR COMPANY).

Designated pursuant to section 1(a)(iii) of E.O. 13382 for having provided, or attempted to provide, financial, material, technological or other support for, or goods or services in support of, OJE PARVAZ MADO NAFAR COMPANY, a person whose property and interests in property are blocked pursuant to E.O. 13382.

15. ADAK PARGAS PARS TRADING COMPANY, Bandar Abbas, Hormozgan, Iran; Additional Sanctions Information—Subject to Secondary Sanctions; Organization Established Date 06 Mar 2023; National ID No. 14012064114 (Iran); Registration Number 22875 (Iran) [NPWMD] [IFSR] (Linked To: KLINGE, Marco).

Designated pursuant to section 1(a)(iii) of E.O. 13382 for having provided, or attempted to provide, financial, material, technological or other support for, or goods or services in support of, KLINGE, Marco, a person whose property and interests in property are blocked pursuant to E.O. 13382.

16. MOSTAFA ROKNIFARD PRIME CHOICE GENERAL TRADING LLC (a.k.a. MOSTAFA ROKNIFARD PERFUMES AND COSMETICS TRADING LLC), Dubai, United Arab Emirates; Additional Sanctions Information—Subject to Secondary Sanctions; Organization Established Date 01 Oct 2021 to 31 Oct 2021; Commercial Registry Number 1627661 (United Arab Emirates); Chamber of Commerce Number 377082 (United Arab Emirates); Business Registration Number 996003 (United Arab Emirates) [NPWMD] [IFSR] (Linked To: KLINGE, Marco).

Designated pursuant to section 1(a)(iii) of E.O. 13382 for having provided, or attempted to provide, financial, material, technological or other support for, or goods or services in support of, KLINGE, Marco, a person whose property and interests in property are blocked pursuant to E.O. 13382.

On February 25, 2026, OFAC also identified the following vessels as property in which a blocked person has an interest under the relevant sanctions authority listed below.

Vessels

1. LUMA (YJQY4) LPG Tanker Vanuatu flag; Vessel Year of Build 1993; Vessel Registration Identification IMO 9034690; MMSI 577277000 (vessel) [IRAN-EO13902] (Linked To: WANSA GAS SHIPPING CO.).

Identified as property in which WANSA GAS SHIPPING CO., a person whose property and interests in property are blocked pursuant to E.O. 13902, has an interest.

2. NIBA (T8A4992) LPG Tanker Palau flag; Vessel Year of Build 1993; Vessel Registration Identification IMO 9046784; MMSI 511101558 (vessel) [IRAN-EO13902] (Linked To: PAROS MARITIME S.A.).

Identified as property in which PAROS MARITIME S.A., a person whose property and interests in property are blocked pursuant to E.O. 13902, has an interest.

3. FELICITA (D6A3040) Crude Oil Tanker Comoros flag; Vessel Year of Build 2000; Vessel Registration Identification IMO 9167162; MMSI 620999032 (vessel) [IRAN-EO13902] (Linked To: VAST MARINE INC).

Identified as property in which VAST MARINE INC, a person whose property and interests in property are blocked pursuant to E.O. 13902, has an interest.

4. HOOT (3FIQ9) LPG Tanker Panama flag; Vessel Year of Build 2003; Vessel Registration Identification IMO 9267962; MMSI 371686000 (vessel) [IRAN-EO13902] (Linked To: POROS MARITIME VENTURES S.A.).

Identified as property in which POROS MARITIME VENTURES S.A., a person whose property and interests in property are blocked pursuant to E.O. 13902, has an interest.

5. NORTH STAR (8PPB) Crude Oil Tanker Barbados flag; Vessel Year of Build 2005; Vessel Registration Identification IMO 9299563; MMSI 314109000 (vessel) [IRAN-EO13902] (Linked To: MISTRAL FLEET CO LTD).

Identified as property in which MISTRAL FLEET CO LTD, a person whose property and interests in property are blocked pursuant to E.O. 13902, has an interest.

6. OCEAN KOI (8P2574) Crude Oil Tanker Barbados flag; Vessel Year of Build 2004; Vessel Registration Identification IMO 9255933; MMSI 314001038 (vessel) [IRAN-EO13902] (Linked To: OCEAN KUDOS SHIPPING COMPANY LIMITED).

Identified as property in which OCEAN KUDOS SHIPPING COMPANY LIMITED, a person whose property and interests in property are blocked pursuant to E.O. 13902, has an interest.

7. ATEELA 1 (EPCF9) Products Tanker Iran flag; Vessel Year of Build 2009; Vessel Registration Identification IMO 9548990; MMSI 422044800 (vessel) [IRAN-EO13902] (Linked To: BEHENGAM TADBIR QESHM SHIPPING AND MARITIME SERVICES COMPANY).

Identified as property in which BEHENGAM TADBIR QESHM SHIPPING AND MARITIME SERVICES COMPANY, a person whose property and interests in property are blocked pursuant to E.O. 13902, has an interest.

8. ATEELA 2 (EPCG2) Products Tanker Iran flag; Vessel Year of Build 2010; Vessel Registration Identification IMO 9549009; MMSI 422044900 (vessel) [IRAN-EO13902] (Linked To: BEHENGAM TADBIR QESHM SHIPPING AND MARITIME SERVICES COMPANY).

Identified as property in which BEHENGAM TADBIR QESHM SHIPPING AND MARITIME SERVICES COMPANY, a person whose property and interests in property are blocked pursuant to E.O. 13902, has an interest.

9. ALAA (T8A5128) LPG Tanker Palau flag; Vessel Year of Build 1998; Vessel Registration Identification IMO 9155341; MMSI 511101662 (vessel) [IRAN-EO13902] (Linked To: KAITO NAVIGATION SA).

Identified as property in which KAITO NAVIGATION SA, a person whose property and interests in property are blocked pursuant to E.O. 13902, has an interest.

10. DANUTA I (T8A4990) LPG Tanker Palau flag; Vessel Year of Build 2000; Vessel Registration Identification IMO 9193721; MMSI 511101556 (vessel) [IRAN-EO13902] (Linked To: ITHAKI MARITIME AND TRADING S.A.).

Identified as property in which ITHAKI MARITIME AND TRADING S.A., a person whose property and interests in property are blocked pursuant to E.O. 13902, has an interest.

11. GAS FATE (3E6859) LPG Tanker Panama flag; Vessel Year of Build 1999; Vessel Registration Identification IMO 9147394; MMSI 352004577 (vessel) [IRAN-EO13902] (Linked To: NYR SHIPPING CO.).

Identified as property in which NYR SHIPPING CO., a person whose property and interests in property are blocked pursuant to E.O. 13902, has an interest.

12. REMIZ (3E8793) Crude Oil Tanker Panama flag; Vessel Year of Build 2002; Vessel Registration Identification IMO 9223344; MMSI 352005545 (vessel) [IRAN-EO13902] (Linked To: GOLDWAVE MARITIME SERVICES INC).

Identified as property in which GOLDWAVE MARITIME SERVICES INC, a person whose property and interests in property are blocked pursuant to E.O. 13902, has an interest.

(Authority: E.O. 13902; E.O. 13382; E.O. 13949.)

Bradley T. Smith,
Director, Office of Foreign Assets Control.

[FR Doc. 2026-03988 Filed 2-26-26; 8:45 am]

BILLING CODE 4810-AL-P